DEPARTMENT OF HEALTH AND HUMAN SERVICES

Office of the Secretary

Office of the Assistant Secretary for Financial Resources; Statement of Organization, Functions, and Delegations of Authority

SUMMARY: The Department of Health and Human Services (HHS) is updating and realigning a portion of two offices within the Office of the Assistant Secretary for Financial Resources (ASFR), Office of the Secretary: the Immediate Office (AM) and the Office of Finance (AMS) ASFR is modifying its structure to move the Division of Enterprise Risk Management from the Office of Finance to the Immediate Office and establish the Division of Administrative Operations and Grants Quality Service Management Office within the Immediate Office (AM).

FOR FURTHER INFORMATION CONTACT: Christine Jones, Deputy Assistant Secretary Operations and Management, ASFR, 200 Independence Ave, SW, Washington, DC 20201, (202) 690-6061.

SUPPLEMENTARY INFORMATION: Part A (Office of the Secretary), Statement of Organization, Functions, and Delegations of Authority of the Department of Health and Human Services (HHS) is being amended at Chapter AM, Office of Financial Resources, as last amended at 76 FR 69741-42, dated November 9, 2011, and 74 FR 57679-82, dated November 9, 2009. This reorganization modifies ASFR's structure to elevate key Department and Government-wide functions and improve operational functionality by creating the Division of Administrative Operations and the Grants Quality Services Management Office (QSMO) within the Immediate Office of the Assistant Secretary and realigning the Division of Enterprise Risk Management (ERM) from the Office of Finance to the Immediate Office of the Assistant Secretary for Financial Resources This reorganization will make the following changes under Chapter AM, Office of Financial Resources:

I. Under Section AM.10 Organization, insert the following:

A. Immediate Office of the Assistant Secretary (AM). The Immediate Office (IO) is headed by the Deputy Assistant Secretary for Operations and Management and includes the:

○ Division of Administrative Operations

○ Grants QSMO Office

○ Division of Enterprise Risk Management

II. Under Section AM.20 Functions, insert the following sections:

A. Immediate Office of the Assistant Secretary (AM). The Immediate Office (IO) is responsible for support, operations, and coordination required to execute the mission of ASFR including implementation of HHS's Enterprise Risk Management (ERM) program and oversight of the Grants QSMO Office.

(1) Division of Administrative Operations. The Division:

(a) Provides operational support for the ASFR;

(b) Coordinates administrative and operational issues across ASFR.

(c) Leads strategic planning for ASFR;

(d) Serves as the liaison with internal and external stakeholders regarding operational matters;

(e) Leads ASFR workforce development initiatives; and

(f) Leads other activities that enhance ASFR's management and operations

(2) Division of Enterprise Risk Management. The Division:

(a) Coordinates across HHS to establish, and communicate, and sustain HHS's ERM vision, culture, strategy, and framework;

(b) Designs, implements, and matures an ERM capability across HHS, including governance and community management;

(c) Develops and shares tools, guidance, and best practices regarding ERM;

(d) Provides technical assistance and direction to HHS Operating Divisions (OPDIVs) and Staff Divisions (STAFFDIVs) on implementing ERM;

(e) Facilitates strategic initiatives across HHS's risk portfolio including guiding updates of the agency's risk profile, and management's prioritization of risks and opportunities;

(f) Leads the Department's efforts to meet the ERM requirement in OMB Circular A-123, “Management's Responsibility for Enterprise Risk Management and Internal Control”;

(g) Prepares reports, briefings, and makes recommendations to senior HHS leadership, OPDIVs, STAFFDIVs and other stakeholders on ERM related activities; and

(h) Leads activities that enhance HHS implementation and integration of ERM into business operations.

(3) The Grants Quality Service Management Office (Grants QSMO). The Office:

(a) Offers and manages a marketplace of solutions for common technology, services, or fully managed services to respond to agency needs;

(b) Guides and governs the long-term sustainability of the services and solutions;

(c) Works with agencies on alternative strategies to help them build a business case if a marketplace for a particular solution is not yet available;

(d) Administers a customer engagement and feedback model that allows for continuous improvement and performance management of solutions;

(e) Drives the implementation of standards that produce efficiencies in process and scale and that are established through the collaborative governance process; and

(f) Analyzes the status of the government-wide grants management ecosystem and present information and recommendations to HHS executives and other inter-government stakeholders to inform strategic decisions on federal investments in technology and services for grants management.

III. Under D Chapter AMS, Office of Finance (AMS) section AMS.00 Mission:

A. Replace Section 1. Immediate Office (AMS) with:

1. Immediate Office (AMS). The Immediate Office (IO) is responsible for support and coordination to execute the mission of OF:

(1) Provides leadership for the HHS CFO community;

(2) Leads strategic planning for the HHS CFO community and the Office of Finance;

(3) Serves as the liaison with internal and external stakeholders regarding financial management matters;

(4) Provides operational support for the OF;

(5) Leads workforce development initiatives for the OF;

(6) Advises the ASFR/CFO regarding financial management matters affecting the Department; and

(7) Leads other activities that enhance OF's management and operations

IV. Delegations of Authority: All delegations and redelegations of authority made to officials and employees of affected organizational components will continue in them or their successors pending further redelegations, provided they are consistent with this reorganization.

Authority: 44 U.S.C. 3101

Dated: January 11, 2021.
S. W. Rowell,
Assistant Secretary for Administration.

[FR Doc. 2021-01226 Filed 1-15-21; 11:15 am]

BILLING CODE P